DEPARTMENT OF ENERGY

Federal Energy Regulatory Commission

[Docket No. EC03-52-000]

The Mission Group, on Behalf of Its Public Utility Subsidiaries; Notice of Filing

February 24, 2003.

Take notice that on February 5, 2003, The Mission Group (Applicant), acting on behalf of its public utility subsidiaries, filed with the Federal Energy Regulatory Commission (Commission) an application pursuant to section 203 of the Federal Power Act for authorization of a transfer of indirect control of jurisdictional facilities, arising from the proposed reincorporation of the Applicant under the laws of the State of Delaware. Applicant states that the proposed transaction brings it within the same corporate governance regime as its principal subsidiaries, Edison Mission Energy and Mission Energy Holding Company, and will have no effect on competition, rates, or regulation and is consistent with the public interest.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: March 3, 2003.

Magalie R. Salas,
Secretary.

[FR Doc. 03-4845 Filed 2-28-03; 8:45 am]

BILLING CODE 6717-01-P